DEPARTMENT OF LABOR

Employment and Training Administration

[TA-W-71,705]

Arcelor Mittal Including On-Site Leased Workers From Adecco, ESW, Inc., Guardsmark, Hudson Global Resources and Multi Serv, Hennepin, IL; Amended Certification Regarding Eligibility To Apply for Worker Adjustment Assistance

In accordance with Section 223 of the Trade Act of 1974, as amended (“Act”), 19 U.S.C. 2273, the Department of Labor issued a Certification of Eligibility to Apply for Worker Adjustment Assistance on March 26, 2010, applicable to workers of Arcelor Mittal, including on-site leased workers from Adecco, ESW, Inc., Guardsmark and Hudson Global Resources, Hennepin, Illinois. The notice was published in the Federal Register on April 23, 2010 (75 FR 21355).

At the request of the Company, the Department reviewed the certification for workers of the subject firm. The workers are engaged in activities related to production of hot and cold rolled steel.

The company reports that workers leased from Multi Serv were employed on-site at the Hennepin, Illinois location of Arcelor Mittal. The Department has determined that these workers were sufficiently under the control of the subject firm to be considered leased workers.

Based on these findings, the Department is amending this certification to include workers leased from Multi Serv working on-site at the Hennepin, Illinois location of Arcelor Mittal.

The amended notice applicable to TA-W-71,705 is hereby issued as follows:

All workers Arcelor Mittal, including on-site leased workers from Adecco, ESW, Inc., Guardsmark, Hudson Global Resources and Multi Serv, Hennepin, Illinois, who became totally or partially separated from employment on or after July 6, 2008, through March 26, 2012, and all workers in the group threatened with total or partial separation from employment on the date of certification through two years from the date of certification, are eligible to apply for adjustment assistance under Chapter 2 of Title II of the Trade Act of 1974, as amended.

Signed at Washington, DC this 27th day of April 2010.
Michael W. Jaffe,
Certifying Officer, Division of Trade Adjustment Assistance.

[FR Doc. 2010-11276 Filed 5-11-10; 8:45 am]

BILLING CODE 4510-FN-P